DEPARTMENT OF ENERGY

Federal Energy Regulatory Commission

[Docket No. ER00-3583-000]

Arizona Independent Scheduling Administrator Association; Notice of Filings

November 8, 2000.

On October 5, 2000, by delegated authority, a deficiency letter in the instant proceeding determined that Arizona Independent Scheduling Administrator Association's filing in the instant proceeding was deficient, pending submission by Arizona Public Service (APS) and Tucson Electric Power Company (Tucson) of modifications in their own open access transmission tariffs. APS made such a filing, in Docket No. ER01-173-000, on October 20, 2000. Tucson filed modifications to its tariff, as revised, in Docket No. ER01-208-000, on October 25, 2000. As a consequence, the date for the submission of comments, protests, and interventions in Docket No. ER00-3583-000 will be November 15, 2000. The comment dates for Docket Nos. ER01-173-000 and ER01-208-000 remain November 8, 2000 and November 15, 2000, respectively.

Any person desiring to be heard or to protest such filings should file a motion to intervene or protest with the Federal Energy Regulatory Commission, 888 First Street, N.E., Washington, D.C. 20426, in accordance with Rules 211 and 214 of the Commission's Rules of Practice and Procedure (18 CFR 385.211 and 385.214). All such motions and protests should be filed on or before the above-mentioned dates. Protests will be considered by the Commission to determine the appropriate action to be taken, but will not serve to make protestants parties to the proceedings. Any person wishing to become a party must file a motion to intervene. Copies of these filings are on file with the Commission and are available for public inspection. These filings may also be viewed on the Internet at http://www.ferc.fed.us/online/rims.htm (call 202-208-2222 for assistance). Comments and protests may be filed electronically via the internet in lieu of paper. See, 18 CFR 385.2001 (a)(1)(iii) and the instructions on the Commission's web site at http://www.ferc.fed.us/efi/doorbell.htm.

Linwood A. Watson, Jr.,
Acting Secretary.

[FR Doc. 00-29207 Filed 11-14-00; 8:45 am]

BILLING CODE 6717-01-M